ENVIRONMENTAL PROTECTION AGENCY

[9933-12-Region 1]

Proposed CERCLA Administrative Cost Recovery Settlement; Town Of Bennington, Vermont, Former Kocher Drive Dump Site, Bennington, Vermont

AGENCY: Environmental Protection Agency (EPA).

ACTION: Notice of proposed settlement; request for public comments.

SUMMARY: In accordance with Section 122(i) of the Comprehensive Environmental Response Compensation, and Liability Act, as amended (“CERCLA”), 42 U.S.C. Section 9622(i), notice is hereby given of a proposed administrative settlement for recovery of response costs under CERCLA Section 122(h) and 104(e), concerning the Former Kocher Drive Dump Superfund Site in Bennington, Vermont with the following settling party: Town of Bennington, Vermont. The settlement requires the Town of Bennington, Vermont to pay $175,000 to the Hazardous Substance Superfund, consisting of principal and interest, on the following payment schedule: (1) $50,000 within 10 days of the Effective Date of the settlement; (2) $75,000 on or before December 31, 2015; and (3) the balance of $50,000 on or before December 31, 2016. The settlement also requires the Town to comply with any request or order from the Vermont Agency of Natural Resources relating to the Site.

For 30 days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by September 25, 2015.

ADDRESSES: Comments should be addressed to David Peterson, Senior Enforcement Counsel, U.S. Environmental Protection Agency, 5 Post Office Square, Suite 100 (OES04-1), Boston, MA 02109-3912 (Telephone No. 617-918-1891) and should refer to: In re: Former Kocher Drive Dump Superfund Site, U.S. EPA Docket No. 01-2014-0007.

FOR FURTHER INFORMATION CONTACT: A copy of the proposed settlement may be obtained from Cindy Catri, Senior Enforcement Counsel, U.S. Environmental Protection Agency, 5 Post Office Square, Suite 100 (OES04-2), Boston, MA 02109-3912; (617) 918-1888; Catri.Cynthia@epa.gov.

SUPPLEMENTARY INFORMATION: This proposed administrative settlement for recovery of response costs under CERCLA Section 122(h)(1) and 104(e)(6), concerning the Former Kocher Drive Dump Superfund Site in Bennington, Vermont, requires the settling party, the Town of Bennington, Vermont to pay $175,000 to the Hazardous Substance Superfund, consisting of principal and interest, on the following payment schedule: (1) $50,000 within 10 days of the Effective Date of the settlement; (2) $75,000 on or before December 31, 2015; and (3) the balance of $50,000 on or before December 31, 2016. The settlement also requires the Town to comply with any request or order from the Vermont Agency of Natural Resources relating to the Site.

The settlement includes a covenant not to sue pursuant to Sections 106 and 107(a) of CERCLA, 42 U.S.C. 9606 and 9607, relating to the Site, and protection from contribution actions or claims as provided by Sections 113(f)(2) and 122(h)(4) of CERCLA, 42 U.S.C. 9613(f)(2) and 9622(h)(4). The settlement has been approved by the Environmental and Natural Resources Division of the United States Department of Justice.

Dated: August 13, 2015.
Nancy Barmakian,
Acting Director, Office of Site Remediation and Restoration.

[FR Doc. 2015-21211 Filed 8-25-15; 8:45 am]

BILLING CODE 6560-50-P